DEPARTMENT OF DEFENSE

Department of the Army

Notice of Intent (NOI) To Prepare an Environmental Impact Statement (EIS) for Transformation-Related Increased Training at Fort Benning, GA (Maneuver Center of Excellence EIS)

AGENCY: Department of the Army, DoD.

ACTION: Notice of Intent.

SUMMARY: In order to transform the Army, meet the increased national security and defense requirements of the 21st century, maintain training and operational readiness levels of the force, and preserve a high quality of life for U.S. Army Soldiers and Families, the Army has identified the need to increase its overall size while continuing to restructure its forces in accordance with modular Transformation decisions. On December 19, 2007, the Army signed a Record of Decision (ROD) documenting its decision to proceed with growth of the Active and Reserve components of the Army by 74,200 Soldiers through establishment of several new Brigade Combat Teams (BCTs) and Combat Support and Combat Support Service units (CS/CSS). The growth of the Army would allow for the adjustment of the composition of its forces to continue to accommodate Transformation objectives and create additional unit capabilities in high demand areas where mission requirements exceed current manning authorizations. The Army growth decision will result in increased demands for the use of Fort Benning. Fort Benning will prepare a Maneuver Center of Excellence EIS to analyze Grow the Army (GTA) site-specific requirements and additional actions needed to support Base Realignment and Closure (BRAC) implementation at Fort Benning.

In 2007 Fort Benning prepared a Final EIS for proposed Transformation and Base Realignment and Closure activities and signed a ROD selecting an alternative to proceed with several necessary projects and activities (Final EIS for BRAC 05 Realignment and Transformation Actions at Fort Benning, October 2007). Although Fort Benning itself will not experience permanent force structure growth beyond that analyzed in the BRAC 05 Realignment and Transformation EIS, it will be required to increase training of transient student loads in order to achieve and maintain the Army end-strength growth. The Fort Benning Maneuver Center of Excellence EIS will therefore consider a proposed action and reasonable alternatives for the Army to increase facilities at Fort Benning to accommodate training requirements related to BRAC, Global Defense Posture Realignment (GDPR), Army Modular Force Initiatives (AMF), GTA and other related stationing activities.

ADDRESSES: For further information regarding the EIS, please contact Mr. John Brent, Fort Benning Directorate of Public Works, Environmental Management Division, Bldg #6 (Meloy Hall), Room 310, Fort Benning, GA 31905. Written comments may be sent to Ms. Manganaro at 6751 Constitution Loop, Suite 550, Fort Benning, Georgia 31905.

FOR FURTHER INFORMATION CONTACT: Ms. Monica Manganaro, Fort Benning Public Affairs Office at (706) 545-3438, or Mr. Brandon Cockrell at (706) 545-3210 during normal business hours.

SUPPLEMENTARY INFORMATION: Fort Benning consists of 181,275 acres of DoD-managed land south and east of Columbus, Georgia on the banks of the Chattahoochee River in eastern Alabama and western Georgia.

The Maneuver Center of Excellence EIS is directly related to the BRAC 05 Realignment and Transformation Actions at Fort Benning EIS and the Programmatic EIS for Army Growth and Force Structure Realignment. The Maneuver Center of Excellence EIS will analyze impacts as a result of continuing Army Transformation actions at Fort Benning, including newly identified projects that are required to support GTA, and 2 changes or additions to BRAC and Transformation projects (including GDPR and AMF) as analyzed in the BRAC 05 Realignment and Transformation EIS.

The proposed action would include the construction, maintenance and operation of additional facilities, training areas, including ranges and maneuver areas to support new units and activities.

The Maneuver Center of Excellence EIS will analyze the impact of several alternatives including the No Action Alternative. Alternatives to be examined by the EIS may consist of alternative siting locations within Fort Benning for facility and range construction projects, selection of new construction only, renovation and use of existing facilities, or a combination of both new construction and use of existing facilities, and varying intensity and use of maneuver areas within Fort Benning for training activities. Other alternatives may be identified during the public scoping process.

Impacts analyzed will include a wide range of environmental resource areas including, but not limited to, air quality, traffic, noise, water resources, biological resources, cultural resources, socioeconomics, utilities, land use, solid and hazardous materials/waste, and cumulative environmental effects. Impacts to biological and water resources, air quality, and utilities could possibly be significant. Additional resources and conditions may be identified as a result of the scoping process initiated by this NOI. The public will be invited to participate in the 30-day scoping process which includes a scoping meeting and commenting on the proposed action, alternatives, and environmental issues of concern to be considered and addressed in the EIS. Opportunities for public participation will be announced in the local news media and at Fort Benning's Web site at https://www.benning.army.mil/EMD/program/legal/index.htm. Comments from the public will be considered before completion of a Draft EIS (DEIS). Following completion of a DEIS the public will have an additional opportunity for review and comment. The FEIS will make appropriate changes based on public comments and will be released to the public for a 30-day waiting period. After fully considering the FEIS, including any public comments, the Army will sign a Record of Decision (ROD) choosing an alternative to implement the proposed action at Fort Benning. The ROD will not be signed prior to the expiration of 30 days from the publication of the Notice of Availability (NOA) of the FEIS.

Dated: March 10, 2008.
Addison D. Davis, IV
Deputy Assistant Secretary of the Army, (Environment, Safety and Occupational Health).

[FR Doc. E8-5219 Filed 3-17-08; 8:45 am]

BILLING CODE 3710-08-M